DEPARTMENT OF HEALTH AND HUMAN SERVICES

National Institutes of Health

National Institute on Drug Abuse; Amended Notice of Meeting

Notice is hereby given of a change in the meeting of the National Advisory Council on Drug Abuse, May 16, 2001, 1 p.m. to May 17, 2001, 4:30 p.m., Neuroscience Center, National Institutes of Health, 6001 Executive Blvd., Rockville, MD, 20852 which was published in the Federal Register on April 5, 2001, Volume 66 FR 18103.

The time of the meeting for the open session has been changed to 9 a.m. to 11 a.m. on May 17, 2001. The time of the closed session will remain the same, from 1 p.m. to 4:30 p.m. on May 16, 2001. The meeting is partially closed to the public.

Dated: May 1, 2001.
LaVerne Y. Stringfield,
Director, Office of Federal Advisory Committee Policy.

[FR Doc. 01-11596 Filed 5-8-01; 8:45 am]

BILLING CODE 4140-01-M